FEDERAL ELECTION COMMISSION

Sunshine Act Meeting

Date and Time: Tuesday, April 5, 2005 at 10 a.m.

Place: 999 E Street, NW., Washington, DC.

Status: This meeting will be closed to the public.

Items to be discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Person To Contact For Information: Mr. Robert Biersack, Press Officer, Telephone: (202) 694-1220.

Mary W. Dove,
Secretary to the Commission.

[FR Doc. 05-6519 Filed 3-29-05; 3:16 pm]

BILLING CODE 6715-01-M